DEPARTMENT OF STATE

[Public Notice: 10296]

Notice of Receipt of an Application From the California Department of Transportation for Issuance of a Presidential Permit Authorizing the Construction, Connection, Operation, and Maintenance of a New Border Crossing at Otay Mesa East

AGENCY: Department of State.

ACTION: Notice of availability; request for comments.

SUMMARY: The Department of State (DOS) hereby gives notice that on November 22, 2017, it received an application from the California Department of Transportation (Caltrans) for a Presidential permit authorizing the construction, connection, operation, and maintenance of a new border crossing at Otay Mesa East to serve the San Diego, California and Tijuana, Baja California areas, called the Otay Mesa East Port of Entry. A new port of entry in San Diego County could alleviate strain on the existing ports of entry and the local and regional transportation infrastructure.

DATES: Comments must be submitted no later than March 9, 2018 at 11:59 p.m.

ADDRESSES: For reasons of efficiency, the State Department encourages the electronic submission of comments through the Federal Government's eRulemaking Portal (http://www.regulations.gov), enter Docket No. DOS-2018-0007, and follow the prompts to submit a comment. The State Department also will accept comments submitted in hard copy by mail and postmarked no later than March 9, 2018. Please note that standard mail delivery to the State Department can be delayed due to security screening. To submit comments by mail, use the following address: Office of Mexican Affairs, Bureau of Western Hemisphere Affairs, Room 3924, Department of State, 2201 C St. NW, Washington, DC 20520.

FOR FURTHER INFORMATION CONTACT: Litah N. Miller, Office of Mexican Affairs, Bureau of Western Hemisphere Affairs, via email at WHA-BorderAffairs@state.gov; by phone at 202-647-9894; or by mail at Office of Mexican Affairs, Bureau of Western Hemisphere Affairs, Room 3924, Department of State, 2201 C St. NW, Washington, DC 20520.

SUPPLEMENTARY INFORMATION: Deputy Secretary of State John D. Negroponte issued a Presidential permit for a port of entry in the same location November 20, 2008. That permit is expected to expire November 20, 2018. Caltrans requested a new permit on November 22, 2017. The application may be found at: Caltrans's application is available at https://www.state.gov/p/wha/rt/permit/app/califdotpermit/index.htm.

Under Executive Order 11423, as amended, the Secretary of State is designated and empowered to receive all applications for Presidential permits for the construction, connection, operation, or maintenance at the borders of the United States of facilities including land crossings and bridges. The Secretary of State, or his delegate, issues or denies Presidential permits under Executive Order 11423 on the basis of a national interest determination. That determination may include consideration of a range of factors, including but not limited to foreign policy; environmental, cultural, and economic impacts; and compliance with applicable law and policy.

As provided in E.O. 11423, this application is being circulated to relevant federal agencies for review and comment. Interested members of the public are invited to submit written comments regarding this application. The public comment period will end 30 days from the publication of this notice. Comments are not private. They will be posted on the site http://www.regulations.gov. The comments will not be edited to remove identifying or contact information, and the State Department cautions against including any information that one does not want publicly disclosed. The State Department requests that any party soliciting or aggregating comments received from other persons for submission to the State Department inform those persons that the State Department will not edit their comments to remove identifying or contact information, and that they should not include any information in their comments that they do not want publicly disclosed.

Colleen A. Hoey,
Director, Office of Mexican Affairs, Department of State.

[FR Doc. 2018-02539 Filed 2-6-18; 8:45 am]

BILLING CODE 4710-29-P